LEGAL SERVICES CORPORATION

Notice of Updated Population Estimates for Basic Field-Agricultural Worker Grants

AGENCY: Legal Services Corporation.

ACTION: Notice of updated population estimates on which LSC will distribute Basic Field-Agricultural Worker Grants and availability of documentation supporting the estimates.

SUMMARY: The Legal Services Corporation (LSC) announces revised, updated population estimates of agricultural workers that LSC uses to distribute funds among grants for providing civil legal services to those workers and their dependents. LSC provided a detailed background and discussion of why it needed to update these estimates; provided links to the preliminary updated estimates, estimation methodology and additional materials; and invited comments about the updated estimates in a notice for public comment published in the Federal Register. 86 FR 70539 (Dec. 10, 2021).

LSC contracted with the United States Department of Labor, Employment and Training Administration (ETA) to secure updated data regarding the agricultural worker population. LSC used the preliminary estimates that ETA provided for grant allocations starting January 1, 2022. Information LSC received indicated that the preliminary data ETA initially provided needed to be revised. This notice summarizes the revisions that LSC made in response to public comment.

DATES: Applicable May 3, 2022.

FOR FURTHER INFORMATION CONTACT: Stefanie K. Davis, Senior Associate General Counsel for Regulations and Ethics Officer, Legal Services Corporation, 3333 K St. NW, Washington, DC 20007; 202-295-1563 (phone); sdavis@lsc.gov.

Summary of Comments and Revisions to the Preliminary Estimates and LSC's Response

LSC received one comment during the comment period. The National Legal Aid and Defender Association (NLADA) and the NLADA Agricultural Worker Program Section (the Section) jointly submitted the comment. NLADA and the Section expressed no opposition to the preliminary estimates so that LSC's implementation of funding allocations based on updated population estimates would not be delayed past January 2022. They further indicated that NLADA had not fully analyzed the preliminary estimates and that it might request adjustments to the 2021 estimates once its analysis was complete.

After the comment period, the Section submitted questions about the data sets and methods used to estimate the population of H-2A Agricultural Workers and H-2B Forestry Workers. After reviewing the Section's comments, ETA determined that a revision of the estimation methodology could provide a more accurate estimate of the number of these H-2 workers. ETA proceeded to revise the methodology and provided a more accurate estimates of the H-2 worker population and the total agricultural worker population. The Section also requested additional information to enable its members to better understand the estimation methodology. ETA provided additional supplemental materials in response to this request. LSC is using ETA's revised estimates for 2022 grant allocations.

LSC has updated the population estimates of agricultural workers based on the revised methods that ETA has used to estimate the population of H-2 workers and is using the revised estimates for its 2022 grant allocations. The revised estimate of the number of H-2 workers increased the estimate of the national agricultural worker population by .16% and resulted in small increases or decreases in state estimates. This revision will result in corresponding changes in 2022 grant allocations for Agricultural Worker service areas. Because the initial grant allocations for 2022 were based on the preliminary estimates published in December 2021, LSC will adjust the grant allocations for the remainder of 2022 to ensure that total grant allocations for 2022 are based on the final estimates.

LSC is publishing on its website the following documents regarding the final 2021 estimates. See https://www.lsc.gov/grants/basic-field-grant/lsc-service-areas/agricultural-worker-population-estimate-2021-update.

Table: Final Estimates of the 2021 LSC Agricultural Worker Poverty Population, Summary Table. Provides ETA's final 2021 estimates nationally and by state of the LSC Agricultural Worker Poverty Population.

Table: “Final Estimates of the Number of H-2 Workers by State.” Provides the updated estimates of the number of H-2 Workers by state and compares the updated estimates with the initial estimates.

Memorandum: JBS International, “Using Fiscal Year 2016, 2017 and 2018 Data to Estimate the Number of 2017 H-2 Workers.” Explains the methods used to develop revised estimates of H-2 workers with the data available from the Office of Foreign Labor Certification (OFLC).

Table: “Top-Down State-Level Estimates of Active Farmworkers-2021.” Shows the data and calculations from which the figures in the November 5th memo, Appendix B, Table 1, Column B “Total Number of Active Farmworkers in the State” are derived.

Memorandum: JBS International, “Assessment of the Major Changes Between the 2021 and 2016 LSC Agricultural Poverty Population Estimates.” Provides a high-level overview of farm labor market changes over the last decade that likely account for the changes in five components/factors in the 2021 and 2016 population estimates.

Table: Data Sources and Calculations—Final Estimates of the Numbers of H-2A Agricultural Workers and H-2B Forestry Workers. This replaces Table III published in December 2021.

Table: “Comparison of the Preliminary and Final 2021 Estimates of the LSC Agricultural Worker Poverty Population.” Shows the differences between the preliminary and final estimates of LSC Agricultural Worker Population by state.

Table: “Major Differences between 2021 and 2016 LSC Agricultural Worker Poverty Population Estimates.” This replaces the table with the same name published in December 2021.

Authority: 42 U.S.C. 2996g(e).

Dated: April 27, 2022.
Jessica L. Wechter,
Special Assistant to the President, Legal Services Corporation.

[FR Doc. 2022-09415 Filed 5-2-22; 8:45 am]

BILLING CODE 7050-01-P